DEPARTMENT OF THE INTERIOR

Bureau of Indian Affairs

Tribal Consultation on Indian Education Topics

AGENCY: Bureau of Indian Affairs, Interior.

ACTION: Notice of tribal consultation meetings.

SUMMARY: Notice is hereby given that the Bureau of Indian Affairs (BIA) will conduct consultation meetings to obtain oral and written comments concerning potential issues in Indian Education Programs. The potential issues which will be set forth in a tribal consultation booklet to be issued prior to the meetings are the Office of Facility Management and Construction's proposed revision of the Student Enrollment Projection process, the proposed revision of the Education Space Guidelines used in School Construction planning, the Office of Indian Education Programs' possible realignment of the Education Line Offices, The No Child Left Behind Act of 2001 (NCLB), section 1121(d), School Consolidation and Closure, section 1122, National Criteria for Home Living Standards, section 1125, discussion regarding whether to use the existing Negotiated Rulemaking Committee or establish a separate Negotiated Rulemaking Committee for Facilities Construction regulations. Additionally, participants will be able to suggest other items for comment.

DATES: Comments are due on or before September 30, 2003. The meeting dates will be August 11 through 22, 2003 for all locations listed. All meetings will begin at 9 a.m. and continue until 3 p.m. (Local time) or until all meeting participants have an opportunity to make comments.

ADDRESSES: Send or hand-deliver written comments to William A. Mehojah, Jr., Director, Office of Indian Education Programs, Bureau of Indian Affairs, MS-3512-MIB, 1849 C Street, NW., Washington, DC 20240. Submissions by facsimile should be sent to (202) 273-0030.

FOR FURTHER INFORMATION CONTACT: Mr. Kenneth Whitehorn at (202) 208-4976.

SUPPLEMENTARY INFORMATION: The meetings are a follow-up to similar meetings conducted by the OIEP/BIA since 1990.

The purpose of the consultation, as required by 25 U.S.C. 2011(b), is to provide Indian tribes, Indian school boards, Indian organizations, parents, student organizations, school employees, Bureau employees and other interested parties with an opportunity to comment on potential issues raised during this or previous consultation meetings.

Meeting Schedule
Dates | Location | Local contact | Phone number
August 12, 2003 | Hondah, AZ | Kevin Skenandore | (928) 338-5441
August 13, 2003 | Aberdeen, SD | Cherie Farlee | (605) 964-8722
August 13, 2003 | Gallup, NM | Bea Woodward | (505) 786-6150
August 14, 2003 | Albuquerque, NM | Benjamin Atencio | (505) 346-2431
August 14, 2003 | Nashville, TN | Ernest Clark | (615) 695-4101
August 14, 2003 | Tacoma, WA | John Reimer | (503) 872-2743
August 15, 2003 | Oklahoma City, OK | Joy Martin | (405) 605-6051
August 19, 2003 | Anchorage, AK | Benito Lopez | (907) 271-4120
August 19, 2003 | Billings, MT | Levon French | (406) 247-7953
August 19, 2003 | Minneapolis, MN | Terry Portra | (612) 713-4400
August 20, 2003 | Sacramento, CA | Fayetta Babby | (916) 978-6057

A consultation booklet for the meetings is being distributed to Federally recognized Indian tribes, Bureau Regional and Agency Offices and Bureau-funded schools. The booklets will also be available from local contact persons at each meeting.

Comments, including names, street addresses, and other contact information of respondents, will be available for public review at the address listed under the ADDRESSES section during regular business hours (7:45 a.m. to 4:15 p.m. EDT), Monday through Friday, except Federal holidays.

Individual respondents may request confidentiality. If you wish us to withhold your name, street address, and other contact information (such as fax or phone number) from public review or from disclosure under the Freedom of Information Act, you must state this prominently at the beginning of your comment. We will honor your request to the extent allowable by law. We will make available for public inspection in their entirety all submissions from organizations or businesses, and from individuals identifying themselves as representatives or officials of organizations or businesses.

This notice is published in accordance with the authority delegated by the Secretary of the Interior to the Assistant Secretary—Indian Affairs by 209 DM 8.1.

Dated: July 4, 2003.
Aurene Martin,
Acting Assistant Secretary—Indian Affairs.

[FR Doc. 03-17576 Filed 7-10-03; 8:45 am]

BILLING CODE 4310-6W-P